ENVIRONMENTAL PROTECTION AGENCY

[FRL-9167-5]

Clean Air Act Operating Permit Program; Petition for Objection to a Federal Operating Permit for Waste Management of Louisiana L.L.C., Woodside Landfill and Recycling Center (WLRC), Walker, Livingston Parish, LA

AGENCY: Environmental Protection Agency (EPA).

ACTION: Notice of final action.

SUMMARY: This document announces that the EPA Administrator has responded to a citizen petition asking EPA to object to the part 70 Operating Permit for WLRC, Walker, Livingston Parish, Louisiana, issued by the Louisiana Department of Environmental Quality. Specifically, the Administrator has partially granted and partially denied the petition submitted by Tulane Environmental Law Clinic on behalf of the Louisiana Environmental Action Network, Concerned Citizens of Livingston Parish, Mr. O'Neil Couvillion, and Mr. Harold Wayne Breaud (Petitioners), to object to the part 70 operating permit for WLRC in Livingston Parish, Louisiana

Pursuant to section 505(b)(2) of the Clean Air Act (Act), the petitioner may seek judicial review of those portions of the petition which EPA denied in the United States Court of Appeals for the appropriate circuit. Any petition for review shall be filed within 60 days from the date this notice appears in the Federal Register, pursuant to section 307 of the Act.

ADDRESSES: You may review copies of the final order, the petition, and other supporting information at EPA Region 6, 1445 Ross Avenue, Dallas, Texas 75202-2733. EPA requests that if at all possible, you contact the individual listed in the FOR FURTHER INFORMATION CONTACT section to view copies of the final order, petition, and other supporting information. If you wish to examine these documents, you should make an appointment at least 24 hours before visiting day. The final order is also available electronically at: http://www.epa.gov/region07/air/title5/petitiondb/petitions/woodside_decision2009.pdf.

FOR FURTHER INFORMATION CONTACT: Bonnie Braganza, Air Permits Section, Multimedia Planning and Permitting Division, EPA Region 6, 1445 Ross Avenue, Dallas, Texas 75202-2733, telephone (214) 665-7340, or email at braganza.bonnie@epa.gov.

SUPPLEMENTARY INFORMATION: The Act affords EPA a 45-day period to review, and, as appropriate, object to operating permits proposed by State permitting authorities under Title V of the Act. Section 505(b)(2) of the Act authorizes any person to petition the EPA Administrator within 60 days after the expiration of this review period to object to title V operating permits if EPA has not done so. Petitions must be based only on objections to the permit that were raised with reasonable specificity during the public comment period provided by the State, unless the petitioner demonstrates that it was impracticable to raise these issues during the comment period or the grounds for the issues arose after this period.

On January 2, 2009, EPA received a petition from the Petitioners requesting that EPA object to the issuance of the title V operating permit to WLRC for the operation of the landfill in Walker, Livingston Parish, Louisiana. The petitioners claim that: (1) The title V permit fails to include monitoring requirements sufficient to assure compliance with permit limits; (2) LDEQ erred in determining the amount of carbon monoxide emissions for purposes of assessing the applicability of Prevention of Significant Deterioration requirements; (3) the title V permit fails to include nonattainment new source review; and (4) LDEQ failed to meet the public notice requirements before issuing the title V permit.

On May 27, 2010, the Administrator issued an order partially granting and partially denying the petition. The order explains the reasons behind EPA's conclusion to partially grant and partially deny the petition for objection.

Dated: June 11, 2010.
Al Armendariz,
Regional Administrator, Region 6.

[FR Doc. 2010-15331 Filed 6-23-10; 8:45 am]

BILLING CODE 6560-50-P